OFFICE OF MANAGEMENT AND BUDGET

Information Collection Activities: Proposed Collection; Comment Request

AGENCY: Office of Management and Budget.

ACTION: Notice.

SUMMARY: In accordance with the Paperwork Reduction Act (44 U.S.C. 3501 et seq.), the Office of Management and Budget (OMB) invites the general public and Federal agencies to comment on the renewal without change of three (3) standard forms: The SF-270, Request for Advance or Reimbursement; SF-271, Outlay and Request for Reimbursement for Construction Programs; and SF-LLL, Disclosure of Lobbying Activities.

DATES: Comments must be submitted on or before July 24, 2006. Late comments will be considered to the extent practicable.

ADDRESSES: Due to potential delays in OMB's receipt and processing of mail sent through the U.S. Postal Service, we encourage respondents to submit comments electronically to ensure timely receipt. We cannot guarantee that comments mailed will be received before the comment closing date. Electronic mail comments may be submitted to: ephillip@omb.eop.gov. Please include “Grant Forms” in the subject line and the full body of your comments in the text of the electronic message (and as an attachment if you wish). Please include your name, title, organization, postal address, telephone number, and e-mail address in the text of the message. Comments may also be submitted via facsimile to 202-395-3952. Comments may be mailed to Elizabeth Phillips, Office of Federal Financial Management, Office of Management and Budget, Room 6025, New Executive Office Building, 725 17th Street, NW., Washington, DC 20503.

FOR FURTHER INFORMATION CONTACT: Elizabeth Phillips, Office of Federal Financial Management, Office of Management and Budget, (202) 395-3993. The standard forms can be downloaded from the OMB Grants Management home page (http://www.whitehouse.gov/omb/grants).

OMB Control No.: 0348-0004.

Title: Request for Advance or Reimbursement.

Form No.: SF-270.

Type of Review: Extension of a currently approved collection.

Respondents: States, local governments, universities, non-profit organizations.

Number of Responses: 100,000.

Estimated Time per Response: 60 minutes.

Needs and Uses: The SF-270 is used to request funds for all nonconstruction grant programs when letters of credit or predetermined advance payment methods are not used. The Federal awarding agencies use information reported on this form for the award and general management of Federal assistance program awards.

OMB Control No.: 0348-0002.

Title: Outlay and Request for Reimbursement for Construction Programs.

Form No.: SF-271.

Type of Review: Extension of a currently approved collection.

Respondents: States, local governments, universities, non-profit organizations.

Number of Responses: 40,000.

Estimated Time per Response: 60 minutes.

Needs and Uses: The SF-271 is used to request reimbursement for all construction grant programs. The Federal awarding agencies use information reported on this form for the award and general management of Federal assistance program awards.

OMB Control No.: 0348-0046.

Title: Disclosure of Lobbying Activities.

Form No.: SF-LLL.

Type of Review: Extension of a currently approved collection.

Respondents: Contractors, states, local governments, universities, non-profit organizations, for-profit organizations, individuals.

Number of Responses: 1,000.

Estimated Time per Response: 10 minutes.

Needs and Uses: The SF-LLL is the standard disclosure form for lobbying paid for with non-Federal funds, as required by the Byrd Amendment and amended by the Lobbying Disclosure Act of 1995. The Federal awarding agencies use information reported on this form for the award and general management of Federal contracts and assistance program awards.

Office of Management and Budget.
Gil Tran,
Acting Chief, Financial Standards and Grants Branch.

[FR Doc. 06-4809 Filed 5-23-06; 8:45 am]

BILLING CODE 3110-01-M